DEPARTMENT OF HEALTH AND HUMAN SERVICES

Office of the Secretary, Assistant Secretary for Planning and Evaluation

Notice Inviting Applications for Enhancements of Welfare Outcomes Research for Fiscal Year 2000

AGENCY: The Office of the Assistant Secretary for Planning and Evaluation, Department of Health and Human Services.

ACTION: Announcement of the availability of funds and request for applications from States and large counties that propose to enhance current research and monitoring efforts regarding key outcomes related to welfare reform.

SUMMARY: The Office of the Assistant Secretary for Planning and Evaluation (ASPE) announces the availability of funds and invites States and large counties to propose enhancements to existing welfare outcome data collection efforts. ASPE anticipates that approximately four to six States or large counties will receive funding. ASPE is interested in funding only those applicants who propose enhancements that fill knowledge gaps that can not be filled by their existing data collection efforts. These knowledge gaps could pertain to populations who have had direct contact with the welfare system as well as other low-income populations that may be indirectly affected by welfare reform. Enhancements may focus on issues such as sample size, data collection period, content and depth of data, as well as validity and representativeness of data. Eligible applicants may include both States and counties that have previously received grants from ASPE to study welfare outcomes, as well as those who have not received funding from ASPE previously.

CLOSING DATE: The closing date for submitting abstracts under this announcement is June 1, 2000.

MAILING ADDRESS: Application instructions and forms should be requested from and submitted to: Adrienne Little, Grants Officer, Office of the Assistant Secretary for Planning and Evaluation, Department of Health and Human Services, Room 405F, Hubert H. Humphrey Building, 200 Independence Avenue, SW, Washington, DC 20201. Telephone: (202) 690-8794. Requests for forms and administrative questions will be accepted and responded to up to ten (10) working days prior to the closing date.

Copies of this program announcement and many of the required forms may also be obtained electronically at the ASPE World Wide Web Page: http://aspe.hhs.gov, under the title “Funding.” You may fax your request to the attention of the Grants Officer at (202) 690-6518. Applications may not be faxed or submitted electronically.

The printed Federal Register notice is the only official program announcement. Although reasonable efforts are taken to assure that the files on the ASPE World Wide Web Page containing electronic copies of this program announcement are accurate and complete, they are provided for information only. The applicant bears sole responsibility to assure that the copy downloaded and/or printed from any other source is accurate and complete.

FOR FURTHER INFORMATION CONTACT: Grant administrative questions should be directed to the Grants Officer at the address or phone number listed above. Technical/program questions should be directed to Kelleen Kaye, DHHS, ASPE, Room 404E, Hubert H. Humphrey Building, 200 Independence Avenue, SW, Washington, D.C. 20201. Telephone: (202) 401-6634. Questions may be faxed to (202) 690-6562 or e-mailed to kkaye@osaspe.dhhs.gov. Technical questions will be accepted and responded to up to ten (10) working days prior to the closing date.

Supplementary Information:

Part I

Legislative Authority

This announcement is authorized by Section 1110 of the Social Security Act (42 U.S.C. 1310) and awards will be made from funds appropriated under the Department of Health and Human Services Appropriations Act, 2000, by section 1000(a)(4) of the Consolidated Appropriations Act, 2000 (Public Law 106-113).

Eligible Applicants

For studies of populations having direct contact with the TANF system, ASPE will consider applications only from State agencies that administer TANF programs, and county agencies that administer TANF programs and have total populations greater than 500,000. Additionally, for studies of welfare related outcomes among the low-income population more generally, other State agencies may apply and are encouraged to coordinate and/or consult with the TANF administrative agencies in preparing their proposal and undertaking their research. Consortia of States and counties are also encouraged to apply, as long as their combined total populations exceed 500,000 and a single agency is identified as the lead to handle grant funds and sub-granting. Public or private nonprofit organizations, including universities and other institutions of higher education, may collaborate with States in submitting an application, but the principal grantee will be the State or county. Private for-profit organizations may also apply jointly with States, with the recognition that grant funds may not be paid as profit to any recipient of a grant or subgrant. Eligible applications must build on existing survey data collection or administrative data linking capacity around welfare related outcomes and must propose significant enhancements beyond current efforts. Eligible applicants may include both States and counties that have previously received grants from ASPE to study welfare outcomes, as well as those who have not received funding from ASPE previously.

The Code of Federal Regulations, Title 45, Part 92 defines a State as: “Any of the several States of the United States, the District of Columbia, the Commonwealth of Puerto Rico, any territory or possession of the United States, or any agency or instrumentality of a State exclusive of local governments. The term does not include any public and Indian housing agency under United States Housing Act of 1937.”

Available Funds

Approximately $1,000,000 is available from ASPE, in funds appropriated for fiscal year 2000. ASPE anticipates providing approximately four to six awards of between $150,000 and $200,000 each. If additional funding becomes available in fiscal years 2000 or 2001, further projects may be funded. Applications for funding under this announcement should describe projects that can be completely carried out with one year of funding at the above anticipated level.

Use of Funds

No federal funds received as a result of this announcement can be used to purchase computer equipment and no funds may be paid to grantees or subgrantees as profit, i.e., any amount in excess of allowable direct and indirect costs of the recipient (45 CFR 74.81). Our intent is to sponsor enhancements to data collection efforts, and grant funds awarded may not be used to pay for assistance programs or the provision of services.

Grantees must provide at least five percent of the total approved cost of the project. The total approved cost of the project is the sum of the Federal share and the non-Federal share. Thus, a project with a total budget of $200,000 must include a match of at least $10,000 and would imply a request for Federal funds of no more than $190,000. The non-Federal share may be met by cash or in-kind contributions, although applicants are encouraged to meet their match requirements through cash contributions.

If a proposed project activity has approved funding support from other funding sources, the amount, duration, purpose, and source of the funds should be indicated in materials submitted under this announcement. If completion of the proposed project activity is contingent upon approval of funding from other sources, the relationship between the funds being sought elsewhere and from ASPE should be discussed in the budget information submitted as a part of the proposal. In both cases, the contribution that ASPE funds will make to the project should be clearly presented.

Background

Since January 1993, the number of people receiving federally funded assistance under Title IV-A of the Social Security Act has fallen from 14.1 million to just under 7 million recipients, a reduction of 51 percent. This decline has occurred in response to several factors, including the Administration's grants of Federal waivers to 43 States, the provisions of the Personal Responsibility and Work Opportunity Reconciliation Act of 1996 (P.L. 104-193), and the strong economy. In response to the demand from the public and policymakers, many studies have been and are currently being carried out to study the circumstances of the large numbers of people who have left welfare or who applied and were formally or informally diverted from welfare.

In fiscal year 1998, ASPE awarded approximately $2.9 million in grants to state and county TANF agencies to study the outcomes of welfare reform for individuals and families who leave the TANF program and who apply for cash welfare but are never enrolled (“divertees”). Most of the 1998 grants focused on welfare leavers. In fiscal year 1999, ASPE awarded an additional $2.6 million in grants to state and county agencies to study welfare outcomes, including $1.8 million in grants for new projects (primarily focusing on welfare applicants and diversion) and $0.8 million in continuation grants for selected projects funded in 1998. All grants funded in 1998 and 1999 used a combination of administrative and survey data to monitor the economic and general well-being of families applying for, entering, or leaving the TANF program. Earlier grants to states and counties, provided in fiscal years 1996 and 1997, had focused on linking administrative databases in order to study program interactions. In addition, a number of states and localities have funded their own studies of welfare outcomes.

ASPE and the Administration for Children and Families, as well as individual States, have also funded a large number of welfare reform evaluations, including continuations of evaluations that began under waivers and use random assignment to address the effects of alternative welfare reform programs.

Through these various projects, State and local grantees have improved their ability to conduct research on welfare outcomes. Valuable information has been gained about the condition of many low-income families affected by welfare reform. For example, between 50 and 65 percent of single-parent adults leaving TANF were employed in industries covered by unemployment insurance immediately after leaving TANF, according to a review of interim reports from ASPE-funded studies. One year after exit, between 15 and 30 percent of TANF leavers were back on assistance, according to this same review of administrative data studies. Participation rates in Medicaid, food stamps and other government programs varied across the states, but were generally lower than expected. Survey data findings, from the ASPE-funded studies and other state and national projects, provide additional information on such topics as household income, barriers to employment, family and child well-being, and other outcomes that cannot be measured through administrative data alone. Additional information on ASPE funded welfare outcomes studies can be found on the ASPE website at aspe.hhs.gov/hsp/leavers99/index.htm

As findings from these studies emerge and form a valuable knowledge base around welfare outcomes, now is an appropriate time to identify the remaining gaps in knowledge and the enhancements in data collection that could help fill these gaps.

Part II. Purpose

ASPE is committed to using the research funds appropriated by Congress to help States and localities build on what they have learned thus far and enhance their ability to studying welfare outcomes.

The purpose of this announcement is to assist the efforts of States and large counties to implement enhancements to their existing data gathering efforts regarding welfare reform outcomes. These enhancements would help States and/or large counties fill important knowledge gaps regarding welfare outcomes that are difficult to address using their current data. This includes outcomes for families coming in direct contact with the welfare system, as well as the low income population that may be indirectly affected by welfare reform.

An applicant should clearly describe the research questions they propose to answer and their importance for understanding the effects of welfare reform, the existing data collection efforts on which the proposed research will build, their current difficulties in answering the question of interest, and how the enhancements they propose will help them overcome these difficulties. The focus is on expanding the richness and reliability of data available in welfare outcomes research, and proposals focusing primarily on secondary analysis of existing data will not be funded under this announcement.

Priority will be given to those applicants who propose enhancements to ongoing survey data collection efforts. However, applications proposing enhancements to linked administrative data will be considered, provided they can demonstrate an existing capability to link across data systems and/or over time, and propose significant and innovative improvements beyond their current efforts.

Linking to additional program data or linking over a longer period of time would not be considered an improvement unless the additional information would add an important dimension not currently available in the existing linked data. Examples of such improvements include a) linking to nonprogrammatic administrative data systems, such as school records, whose primary focus would be broader than program participation and would help provide information on other household members; and b) linking administrative records over time in a way that allows the tracking of family characteristics and outcomes through multiple benefit situations, e.g. prior to welfare receipt, during receipt, and after exiting.

There is a great degree of variation in State programs, in the scope of State data collection efforts, the knowledge gaps identified, and the enhancements States propose to fill those gaps. Examples of possible knowledge gaps and several associated enhancements are highlighted below. These examples are illustrative. Applicants may focus on other knowledge gaps and enhancements. Enhancements may address issues such as sample size, data collection period, content and depth of data, as well as validity and representativeness of data.

• How are former recipients who are neither employed nor receiving benefits faring? These former recipients are likely to be more transient than other welfare leavers. Research around their outcomes could benefit from using methods to track them more effectively and from developing outcome measures that better capture their well-being when there are no visible means of income. Outcome measures that cover the entire household will be particularly important for this population, given that many may have moved in with other household members, doubling up or cohabiting.

• What can we learn about the well-being and experiences of low-income families who choose not to participate in welfare? In many cases, the influences of welfare reform reach beyond welfare recipients to the low-income population more generally. More information is needed about why many potentially eligible families choose not to participate, whether they have had any contact with the welfare system, and how they are faring. To better understand this population, efforts are needed that build on data sources covering more than welfare recipients.

• Do survey nonrespondents tend to differ on important outcomes, and what do their characteristics imply for the representativeness of existing survey results on welfare outcomes? Nonrespondents are comprised of those who decline to answer the survey, as well as those who could not be located. In some cases, those who could not be located can represent a unique population facing particularly difficult circumstances, and not including them in the sample can bias the findings on welfare outcomes. To find nonrespondents and better understand their outcomes and characteristics, it is often necessary to implement intensive location and follow-up procedures.

• How do outcomes differ among various subgroups within the population being analyzed? Our understanding of subgroup differences could benefit from analysis that not only contrasts by demographic characteristics (e.g. ethnic minorities, people with disabilities, families with children of differing ages, immigrants, rural vs. urban residents, substance abusers), but also by different types of cases (e.g. among leavers, an applicant could propose to contrast closures due to earnings, sanctions and time limits). Subgroup analysis would need data that identifies the characteristic of interest, and that contains a sufficient number of observations within each subgroup.

• How do welfare related outcomes change over time? To improve measures of longitudinal outcomes, more waves could be added to existing survey data to follow a current cohort over a longer period of time, or administrative data could be linked longitudinally to follow clients through multiple benefit situations.

• Can improvements be made to measures that focus beyond the principal respondent and cover the household more broadly? For example, measures of household income could be improved by including data that can be summed across individuals and across income sources to better approximate total household income. Measures of child outcomes could be improved by providing better measures of instability inside and outside the family and covering a more detailed set of outcomes, such as school outcomes, cognitive development, social behaviors/activities/problems, mental health, and the extent of resident and non-resident parent involvement. Monitoring changes in household composition could also be an important aspect of assessing welfare outcomes for the household.

Applicants are free to identify other knowledge gaps which they believe could be better addressed through enhancements to their existing data collection efforts. Regardless of the knowledge gap being addressed or the enhancement being implemented, an applicant proposing to improve research around welfare related outcomes should consider not only the richness, but also the representativeness and validity of the survey and/or linked administrative data they will use.

Part III. Grantee Responsibilities

1. No later than ten (10) months after the date of the award, the grantee shall plan to meet in Washington DC with Federal staff to present and discuss preliminary findings, their plan for the final report, and their efforts to produce and document a public use data file or other efforts to make the resulting data publically available.

2. After completing the analysis, the grantee shall prepare a final report describing the results of the study, including the procedures and methodology used to conduct the analysis, their findings as they relate to the research questions being proposed, and any barriers encountered in completing the project. A draft of this report shall be delivered to the Federal Project Officer no later than thirty (30) days before the completion of the project. After receiving comments on the draft report from the Federal Project Officer, the grantee shall deliver at least three (3) copies of a final report to the Grants Officer before the completion of the project. One of these copies must be unbound, suitable for photocopying; if only one is the original (has the original signature, is attached to a cover letter, etc.), it should not be this copy.

3. To encourage wider analysis, the grantee shall document and make available all data to the research community. ASPE prefers that this result in a public-use data file. In preparing the public-use data file, data shall be edited as appropriate to ensure confidentiality of individuals. The data file and documentation shall be delivered to the Federal Project Officer prior to completion of the project. If the applicant feels that provision of a public-use data file is impossible, the application should explain why and should fully articulate how the applicant will make the data available to qualified researchers and to ASPE by other means. In either case, the grantee shall the plan for data dissemination will be evaluated and scored during the evaluation of proposals.

4. To encourage dissemination of their findings, the grantee shall present their results at one national or regional research conference of their choosing during the year. The grantee shall submit and discuss with the Federal Project Officer any materials they plan to present two weeks prior to the conference.

Part IV. Application Preparation and Evaluation Criteria

This section contains information on the preparation of applications for submission under this announcement, the forms necessary for submission, and the evaluation criteria under which the applications will be reviewed. Potential grant applicants should read this section carefully in conjunction with the information provided above.

Application Preparation

The application must contain the required Federal forms, title page, table of contents, and sections listed below. The narrative shall not exceed 25 single spaced pages and all pages of the narrative should be numbered. Applications from States and counties that received funding from ASPE under the FY 1998 or 1999 welfare outcomes grants are not precluded from submitting proposals under this announcement, provided they are proposing meaningful enhancements to their current efforts data collection efforts. However, such proposals will be graded only on the Evaluation Criteria listed below and will receive no preferential treatment during the award process.

The narrative should include the following elements:

1. Abstract: A one page summary of the proposed project.

2. Goals and objectives of the project: An overview that briefly describes (1) the specific knowledge gaps to be investigated by the applicant and their importance to welfare reform; (2) how the proposed enhancements would fill these knowledge gaps in a way that could not be done using existing data. The narrative should describe how funding under this announcement will enhance, not substitute for, existing State or local efforts.

3. Research Design: Provide a description and justification of how the proposed research project will be implemented, including definition of study populations, use of existing data sources, data collection activities, methodologies and the type of results that are anticipated. This discussion should:

(a) Provide a concise description of any existing research efforts on which the proposed project will build. Lengthy documentation is unnecessary, but the discussion should provide enough detail to (1) Demonstrate an existing capacity regarding survey and/or linked administrative data collection efforts with respect to welfare outcomes or low income populations, including a description of the population and data period covered and any outcomes measures that are relevant to the proposal; and (2) describe, in terms of the richness, representativeness and/or validity of the data, why the current effort cannot fully answer the research questions posed above. The applicant should clearly identify how the study population is defined. To the extent they are focusing on recipients leaving TANF, applicants are strongly encouraged to use the “leaving cash assistance for two months or longer” definition, agreed to by the earlier ASPE-funded grantees.

(b) Describe in detail the data enhancement being proposed with respect to collection of welfare outcomes data, how it would build on the existing data collection efforts to answer the research questions proposed in the application, and how such enhancements to data collection would be implemented. The applicant should discuss the extent to which the enhancement will improve their existing data on welfare related outcomes, including any proposed changes in population, additional data sources, additional outcomes, and how the enhancements will improve data validity and/or representativeness. With respect to existing and proposed survey data, this should include a discussion of sample design, sample size, survey mode and response rates. With respect to existing and proposed linked administrative data, this should include a discussion of what data systems are linked, how the records were matched, what match rate was achieved and any internal validity checks. We encourage applicants to consider using probabilistic matching, which examines several variables and then factors in the probability that two records with different identifiers actually represent the same person.

(c) Identify the methodology the applicant will use to analyze the data and organize the final report. Complex data analysis is neither expected nor preferred. Simple tabular analysis, descriptive statistics and associated tests for statistical significance are appropriate. The description should include specific analyses and tabulations planned, how the results will be presented, and organization of the report. Final results should include a tabulation showing the characteristics of sample members who are not included in the analysis, either due to nonresponse in survey data or due to records that cannot be matched in administrative data, and should discuss any implications regarding the representativeness of their data.

(d) To the extent that the analysis uses data on individuals from multiple, separate sources, such as administrative databases from several State agencies, the proposal should discuss measures taken to maintain confidentiality. Grant applicants must ensure that the collected data will only be used for management and research purposes, and that all identifying information will be kept completely confidential, and should present the methods that will be used to ensure confidentiality of records and information once data are made publically available for research purposes.

4. Experience, capacity, qualifications, and use of staff: Briefly describe the grant applicant's organizational capabilities and experience in conducting pertinent research projects.

(a) The proposal should describe in detail the applicant's and/or key subcontractors' experience with issues regarding the collection and use of survey data and linking administrative data to the extent these are relevant to the proposal. If the grant applicant plans to contract for any of the work (e.g., data-linking, survey design or administration), and the contractors have not been retained, the applicant should describe the process by which they will be selected.

(b) The applicant should identify the key staff who are expected to carry out the project, provide as an attachment a resume or curriculum vitae for each key staff member, and provide a discussion of how key staff will contribute to the success of the project, including the percentage of each staff member's time that will be devoted to the project and their relevant expertise.

(c) Finally, applicants should include, in an attachment, documentation showing authorized access to data proposed for the project and to computer hardware and software for storing and analyzing the data. As proof of access to data, it is preferred that applicants provide a signed interagency agreement with each of the relevant agencies/departments. Though not preferable, letters of support from the appropriate agencies are acceptable, provided that the letter clearly states that the proposing agency has the authorization to access and link all necessary data.

5. Work plan: A work plan should discuss the start and end dates of the project, a time line which indicates the sequence and timing of tasks necessary for the completion of the project, the responsibilities of each of the key staff, and any interaction with tasks of the existing research effort. In listing the sequence of tasks, the plan should provide sufficient detail to demonstrate the applicant has carefully thought through the necessary steps to complete the project. The plan should identify the total time commitments of key staff members in both absolute and percentage terms, including other projects and teaching or managerial responsibilities.

The work plan also should include plans for dissemination of the results of the study (e.g., articles in journals, presentations to State legislatures or at conferences). As noted above, ASPE prefers that the data be edited as appropriate for confidentiality and issued as a public-use data file. The work plan should detail how resulting data and analysis will be made available to qualified researchers and to ASPE. If the grant applicant believes that provision of a public-use file would be impossible, the application should explain why and should fully articulate how the applicant will make the data available to qualified researchers and to ASPE.

6. Budget: Grant applicants must submit a request for federal funds using Standard Form 424A and include a detailed breakdown of all Federal line items. A narrative explanation of the budget should be included that states clearly how the funds associated with this announcement will be used and demonstrates that funds will be used for purposes that would not otherwise be incorporated within the project. The applicant should also discuss how these funds will fit into a total budget that combines funding from other sources, and how funds from other sources will be expended.

All applicants must budget for two trips. One trip should be budgeted for up to three staff members to travel to Washington, DC. At this meeting, grantees will have the opportunity to present their preliminary findings and discuss the format of their final report with Federal staff. A second trip should be budgeted for one staff member to travel to a national or regional research conference of their choosing to present their research findings.

Review Process and Funding Information

Applications will be screened initially for compliance with the timeliness and completeness requirements. Three (3) copies of each application are required. One of these copies must be in an unbound format, suitable for copying. If only one of the copies is the original (i.e., carries the original signature and is accompanied by a cover letter) it should not be this copy. Applicants are encouraged to send an additional four (4) copies to ease processing, but the application will not be penalized if these extra copies are not included. The grant applicant's Standard Form 424 must be signed by a representative of the applicant who is authorized to act with full authority on behalf of the applicant.

A Federal review panel will review and score all applications submitted by the deadline date that meet the screening criteria (all information and documents as required by this announcement.) The panel will use the evaluation criteria listed below to score each application. The panel results will be the primary element used by the ASPE when making funding decisions. The Department reserves the option to discuss applications with other Federal or State staff, specialists, experts and the general public. Comments from these sources, along with those of the reviewers, will be kept from inappropriate disclosure. These comments, along with the goal of funding research on a variety of topics, may be considered in making an award decision.

As a result of this competition, approximately four to six grants of $150,000 to $200,000 each are expected to be made from funds appropriated for fiscal year 2000. Additional awards may be made depending on the policy relevance of proposals received and the available funding, including funds that may become available in fiscal years 2000 or 2001.

State Single Point of Contact (E.O. No. 12372)

DHHS has determined that this program is not subject to Executive Order 12372, “Intergovernmental Review of Federal Programs.” Applicants are not required to seek intergovernmental review of their applications within the constraints of E.O. 12372.

Deadline for Submission of Applications

The closing date for submission of applications under this announcement is June 1, 2000. Hand-delivered applications will be accepted Monday through Friday, excluding Federal holidays, during the working hours of 9 a.m. to 4:30 p.m. in the lobby of the Hubert H. Humphrey building, located at 200 Independence Avenue, SW in Washington, DC. When hand-delivering an application, call (202) 690-8794 from the lobby for pick up. A staff person will be available to receive applications.

An application will be considered as having met the deadline if it is either received at, or hand-delivered to, the mailing address on or before June 1, 2000, or postmarked before midnight three days prior to June 1, 2000 and received in time to be considered during the competitive review process.

When mailing applications, applicants are strongly advised to obtain a legibly dated receipt from the U.S. Postal Service or from a commercial carrier (such as UPS, Federal Express, etc.) as proof of mailing by the deadline. If there is a question as to when an application was mailed, applicants will be asked to provide proof of mailing by the deadline. If proof cannot be provided, the application will not be considered for funding. Private metered postmarks will not be accepted as proof of timely mailing. Applications which do not meet the deadline will be considered late applications and will not be considered or reviewed in the current competition. DHHS will send a letter to this effect to each late applicant.

DHHS reserves the right to extend the deadline for all proposals due to: (1) Natural disasters, such as floods, hurricanes, or earthquakes; (2) a widespread disruption of the mail; or, (3) if DHHS determines a deadline extension to be in the best interest of the Federal government. The Department will not waive or extend the deadline for any applicant unless the deadline is waived or extended for all applicants.

Length of Application

In no case shall an application for the ASPE grant (excluding the resumes, appendices and other appropriate attachments) be longer than twenty-five (25) single-spaced pages, with 12 point font and one inch margins on top, bottom, right and left. Applications should not be unduly elaborate, but should fully communicate the applicant's proposal to the reviewers.

Selection Process and Evaluation Criteria

Selection of successful applicants will be based on the technical and financial criteria described in this announcement. The point value following each criterion heading indicates the maximum numerical weight that each section will be given in the review process. An unacceptable rating on any individual criterion may render the application unacceptable. Consequently, grant applicants should take care to ensure that all criteria are fully addressed in the applications. Grant applications will be reviewed as follows:

1. Goals, Objectives, and Potential Usefulness of the Analyses (25 points). The potential usefulness of the objectives and how the anticipated results of the proposed project will fill critical gaps in knowledge around welfare related outcomes that cannot be answered with existing data. Applications will be judged on the quality and policy relevance of the proposed research questions, appropriateness of study populations, and the usefulness of the analyses.

2. Quality and Soundness of Research Design (35 points). The appropriateness, soundness, and cost-effectiveness of the proposed research design, including data gathering techniques, selection of existing data sets, definition of study populations, statistical techniques and type of results that are anticipated. In particular, the applicant should address the following, as described under the section on Application Preparation.

(a) The applicant must describe the existing survey and/or linked administrative data effort around welfare outcomes or the low-income population on which the proposed enhancements will build, including a description of why the current effort cannot fully answer the research questions posed above.

(b) The applicant should describe in detail the data enhancement being proposed with respect to welfare outcomes research, how it would build on the existing data collection efforts to answer the research questions proposed in the application, and how such enhancements to data collection would be implemented. There is a preference for enhancements to survey data, but enhancements to linked administrative data that are significant and innovative will be considered.

(c) The applicant should also describe their proposed data analysis, including the proposed tabulations and table shells and the planned organization of the final report. Applicant should plan to include in their final results a tabulation showing the basic characteristics of sample members who were not included in the final analysis, including any available outcome measures, and should discuss any implications regarding the representativeness of their data.

(d) To the extent that the analysis uses data on individuals from multiple, separate sources, such as administrative databases from several State agencies, the reviewers will also evaluate whether the applicant has adequately discussed measures taken to maintain confidentiality.

3. Qualifications of Personnel and Organizational Capability. (20 points). The qualifications of the project personnel for conducting the proposed research as evidenced by professional training and experience, and the capacity of the organization to provide the infrastructure and support necessary for the project. This should include providing resumes or curriculum vitae for key staff members and demonstrating access to data, computer hardware to store the data and software to analyze the data, as described above under Application Preparation.

4. Ability of the Work Plan and Budget to Successfully Achieve the Project's Objectives. (20 points). Reviewers will examine (a) if the work plan and budget are reasonable and sufficient to ensure timely completion of the study; (b) whether the application demonstrates an adequate level of understanding regarding the practical problems of conducting such a project; (c) the use of any additional funding and the role that ASPE funds would play in the total project; (d) whether the applicant has shown how results will be disseminated and resulting data will be made available to ASPE and qualified researchers. The preparation and documentation of a public use data file, or other efforts to make the resulting data publically available should be accounted for in the project budget.

Disposition of Applications

1. Approval, disapproval, or deferral. On the basis of the review of the application, the Assistant Secretary will either (a) approve the application as a whole or in part; (b) disapprove the application; or (c) defer action on the application for such reasons as lack of funds or a need for further review.

2. Notification of disposition. The Grant Officer will notify the applicants of the disposition of their applications. If approved, a signed notification of the award will be sent to the business office named in the ASPE checklist.

3. The Assistant Secretary's Discretion. Nothing in this announcement should be construed as to obligate the Assistant Secretary for Planning and Evaluation to make any awards whatsoever. Awards are contingent on the needs of the policy and research communities as identified by the Department at any point in time, and on the quality of the applications that are received.

The Catalog of Federal Domestic Assistance number is 93-239.

Components of a Complete Application

A complete application consists of the following items in this order:

1. Application for Federal Assistance (Standard Form 424);

2. Budget Information—Non-construction Programs (Standard Form 424A);

3. Assurances—Non-construction Programs (Standard From 424B);

4. Table of Contents;

5. Budget Justification for Section B Budget Categories;

6. Proof of Non-profit Status, if appropriate;

7. Copy of the applicant's Approved Indirect Cost Rate Agreement, if necessary;

8. Project Narrative Statement, organized in five sections, addressing the following topics (limited to twenty (25) single-spaced pages):

(a) Abstract,

(b) Goals, Objectives and Usefulness of the Project,

(c) Research Design,

(d) Background of the Personnel and Organizational Capabilities and

(e) Work plan (timetable);

9. Any appendices or attachments;

10. Certification Regarding Drug-Free Workplace;

11. Certification Regarding Debarment, Suspension, or other Responsibility Matters;

12. Certification and, if necessary, Disclosure Regarding Lobbying;

13. Supplement to Section II—Key Personnel;

14. Application for Federal Assistance Checklist.

Dated: April 10, 2000.
Ann M. Segal,
Deputy Assistant Secretary for Planning and Evaluation for Policy Initiatives.

[FR Doc. 00-9419 Filed 4-14-00; 8:45 am]

BILLING CODE 4154-05-U